DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with December anniversary dates. In accordance with Commerce's regulations, we are initiating those administrative reviews.

DATES: Applicable February 2, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with December anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to: (a) identify which companies subject to review previously were collapsed; and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than December 30, 2023.

| Period to be reviewed
AD Proceedings
India: Carbazole Violet Pigment 23, A-533-838 | 12/1/21-11/30/22
Meghmani LLP
Navpad Pigments Pvt. Ltd.
India: Stainless Steel Flanges,⁵ A-533-877 | 10/1/21-9/30/22
Hilton Metal Forging Limited
India: Utility Scale Wind Towers, A-533-897 | 5/24/21-11/30/22
Anand Engineering Products Private Limited
Cubuilt Engineers Private Limited
GE Renewable Energy
GRI Towers India Private Limited
Metalfab Hightech Private Limited
Nordex SE
Siemens Gamesa Renewable Energy Limited
Suzlon Energy Limited
Vestas Wind Technology India Private Limited
VMV Engineering Private Limited
Windar Renewable Energy Private Limited
Malaysia: Utility Scale Wind Towers, A-557-821 | 10/13/21-11/30/22
CS Wind Corporation/CS Wind Malaysia Sdn. Bhd.⁶
Republic of Korea: Forged Steel Fittings, A-580-904 | 12/1/21-11/30/22
Samyoung Fitting Co., Ltd.
Republic of Korea: Welded Line Pipe, A-580-876 | 12/1/21-11/30/22
Husteel Co., Ltd.
Hyundai Steel Company/Hyundai HYSCO
NEXTEEL Co., Ltd.
SeAH Steel Corporation
Thailand: Passenger Vehicle and Light Truck Tires,⁷ A-549-842 | 1/6/21-6/30/22
Deestone Corporation Public Company Limited
The People's Republic of China: Cased Pencils, A-570-827 | 12/1/21-11/30/22
Ningbo Homey Union Co., Ltd.
Shandong Wah Yuen Stationery Co. Ltd./Wah Yuen Stationery Co. Ltd.
Tianjin Tonghe Stationery Co. Ltd.
The People's Republic of China: Crystalline Silicon Photovoltaic Cells, Whether or Not Assembled Into Modules, A-570-979 | 12/1/21-11/30/22
Anji DaSol Solar Energy Science & Technology Co., Ltd.
Boviet Solar Technology Co., Ltd.
BYD (Shangluo) Industrial Co., Ltd.
BYD H.K. Co., Ltd.
Canadian Solar International Limited; Canadian Solar Manufacturing (Changshu), Inc.; Canadian Solar Manufacturing (Luoyang), Inc.; CSI Cells Co., Ltd.; CSI Solar Power (China) Inc.; CSI-GCL Solar Manufacturing (Yancheng) Co., Ltd.
Canadian Solar Manufacturing, Inc.
Changzhou Trina Hezhong Photoelectric Co., Ltd.
Changzhou Trina Solar Yabang Energy Co., Ltd.
Chint Solar (Hong Kong) Company Limited; Chint Solar (Jiuquan) Co., Ltd.
Chint Solar (Zhejiang) Co., Ltd.; Chint New Energy Technology (Haining) Co. Ltd.
CSI Modules (DaFeng) Co., Ltd.
CSI Solar Co., Ltd. (f.k.a. CSI Solar Power (China) Inc.)
CSI Solar Manufacturing (Fu Ning) Co., Ltd. (f.k.a. CSI-GCL Solar Manufacturing (YanCheng) Co., Ltd.)
CSI Solar Power Group Co., Ltd. (f.k.a. CSI Solar Power (China) Inc.)
De-Tech Trading Limited HK
Hengdian Group DMEGC Magnetics Co. Ltd.
Hongkong Hello Tech Energy Co., Ltd.
Hubei Trina Solar Energy Co., Ltd.
JA Solar Co., Ltd.
JA Solar Technology Yangzhou Co., Ltd.
Jiawei Solarchina Co., Ltd.
Jiawei Solarchina (Shenzhen) Co., Ltd.
JingAo Solar Co., Ltd.
Jinko Solar (Malaysia) Sdn. Bhd.
Jinko Solar Import and Export Co., Ltd.; Jinko Solar Co., Ltd.; Jinko Solar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; JinkoSolar (Shangrao) Co., Ltd.
Jinko Solar International Limited
Jinko Solar Technology Sdn. Bhd.
Jinkosolar Middle East DMCC
Lightway Green New Energy Co., Ltd.
Longi (HK) Trading Ltd.
Longi Solar Technology Co. Ltd.
Luoyang Suntech Power Co., Ltd.
Maodi Solar Technology (Dongguan) Co., Ltd.
New East Solar Energy Cambodia Co., Ltd.
Ningbo ETDZ Holdings, Ltd.
Ningbo Qixin Solar Electrical Appliance Co., Ltd.
Red Sun Energy Long An Company Limited
Renesola Jiangsu Ltd.
ReneSola Zhejiang Ltd.
Risen Energy Co. Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; Risen Energy (YIWU) Co., Ltd.
Shanghai BYD Co., Ltd.
Shanghai JA Solar Technology Co., Ltd.
Shanghai Nimble Co., Ltd.
Shenzhen Glory Industries Co., Ltd.
Shenzhen Sungold Solar Co., Ltd.
Shenzhen Topray Solar Co., Ltd.
Shenzhen Yingli New Energy Resources Co., Ltd.; Baoding Jiasheng Photovoltaic Technology Co. Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited
Sumec Hardware & Tools Co., Ltd.
Suntech Power Co., Ltd.
Taizhou BD Trade Co., Ltd.
tenKsolar (Shanghai) Co., Ltd.
Trina Solar Co., Ltd.; Trina Solar (Changzhou) Science and Technology Co., Ltd.; Changzhou Trina Solar Yabang Energy Co., Ltd.; Hubei Trina Solar Energy Co., Ltd..; Turpan Trina Solar Energy Co., Ltd.; Yancheng Trina Solar Energy Technology Co., Ltd.; Changzhou Trina Solar Energy Co., Ltd.; Changzhou Trina PV Ribbon Materials Co., Ltd.
Trina Solar (Hefei) Science and Technology Co., Ltd.
Trina Solar (Singapore) Science and Technology Pte. Ltd.
Trina Solar Energy Development Company Limited
Trina Solar Energy Development PTE Ltd.
Trina Solar Science & Technology (Thailand) Ltd.
Turpan Trina Solar Energy Co., Ltd.
Vina Cell Technology Company Limited
Vina Solar Technology Company Limited
Wuxi Suntech Power Co., Ltd.
Wuxi Tianran Photovoltaic Co., Ltd.
Xiamen Yiyusheng Solar Co., Ltd.
Yancheng Trina Guoneng Photovoltaic Technology Co., Ltd.
Yingli Green Energy International Trading Company Limited
Zhejiang Aiko Solar Energy Technology Co., Ltd.
The People's Republic of China: Melamine, A-570-020 | 12/1/21-11/30/22
Sichuan Aolaite Chemical Co., Ltd.
Xinji Jiuyuan
The People's Republic of China: Multilayered Wood Flooring, A-570-970 | 12/1/21-11/30/22
Anhui Longhua Bamboo Product Co., Ltd.
Benxi Flooring Factory (General Partnership)
Benxi Wood Company
Dalian Deerfu Wooden Product Co., Ltd.
Dalian Jaenmaken Wood Industry Co., Ltd.
Dalian Jiahong Wood Industry Co., Ltd.
Dalian Penghong Floor Products Co., Ltd./Dalian Shumaike Floor Manufacturing.
Co., Ltd.
Dalian Qianqiu Wooden Product Co., Ltd., Fusong Jinlong Wooden Group Co., Ltd., Fusong Jinqiu Wooden Product Co., Ltd., and Fusong Qianqiu Wooden Product Co., Ltd. (collectively, Fusong Jinlong Group)
Dalian Shengyu Science And Technology Development Co., Ltd.
Dongtai Fuan Universal Dynamics, LLC
Dun Hua Sen Tai Wood Co., Ltd.
Dunhua City Dexin Wood Industry Co., Ltd.
Dunhua City Hongyuan Wood Industry Co., Ltd.
Dunhua Shengda Wood Industry Co., Ltd.
HaiLin LinJing Wooden Products, Ltd.
Hunchun Xingjia Wooden Flooring Inc.
Huzhou Chenghang Wood Co., Ltd.
Huzhou Fulinmen Imp. & Exp. Co., Ltd.
Huzhou Sunergy World Trade Co., Ltd.
Jiangsu Guyu International Trading Co., Ltd.
Jiangsu Keri Wood Co., Ltd.
Jiangsu Mingle Flooring Co., Ltd.
Jiangsu Senmao Bamboo and Wood Industry Co., Ltd.
Jiangsu Simba Flooring Co., Ltd.
Jiangsu Yuhui International Trade Co., Ltd.
Jiashan HuiJiaLe Decoration Material Co., Ltd.
Jiashan On-Line Lumber Co., Ltd.
Jiaxing Hengtong Wood Co., Ltd.
Kingman Wood Industry Co., Ltd
Lauzon Distinctive Hardwood Flooring, Inc.
Linyi Anying Wood Co., Ltd.
Linyi Youyou Wood Co., Ltd.
Metropolitan Hardwood Floors, Inc.
Muchsee Wood (Chuzhou) Co., Ltd.
Pinge Timber Manufacturing (Zhejiang) Co., Ltd.
Power Dekor Group Co. Ltd.
Sino-Maple (Jiangsu) Co., Ltd.
Suzhou Dongda Wood Co., Ltd.
Tongxiang Jisheng Import and Export Co., Ltd.
Yekalon Industry, Inc.
Yihua Lifestyle Technology Co., Ltd. (successor-in-interest to Guangdong
Yihua Timber Industry Co., Ltd.)
Yingyi-Nature (Kunshan) Wood Industry Co., Ltd.
Zhejiang Dadongwu Greenhome Wood Co., Ltd.
Zhejiang Fuerjia Wooden Co., Ltd.
Zhejiang Longsen Lumbering Co., Ltd.
Zhejiang Shiyou Timber Co., Ltd.
Zhejiang Shuimojiangnan New Material Technology Co., Ltd.
Zhejiang Simite Wooden Co., Ltd.
The People's Republic of China: Refillable Stainless Steel Kegs, A-570-093 | 12/1/21-11/30/22
Dalian Yonghseng Metal Structure Co., Ltd. d/b/a DYM Brewing Solutions
Equipmentimes (Dalian) E-Commerce Co., Ltd.
Guangzhou Jingye Machinery Co., Ltd.
Guangzhou Ulix Industrial & Trading Co., Ltd.
Jinan Chenji International Trade Co., Ltd.
Jinan Chenji Machinery Equipment Co., Ltd.
Jinan HaoLu Machinery Equipment Co., Ltd.
Jinjiang Jiaxing Import and Export Co., Ltd.
NDL Keg Qingdao Inc.
Ningbo All In Brew Technology Co.
Ningbo BestFriends Beverage Containers Industry Co., Ltd.
Ningbo Chance International Trade Co., Ltd.
Ningbo Direct Import & Export Co., Ltd.
Ningbo Haishu Direct Import and Export Trade Co., Ltd.
Ningbo Haishu Xiangsheng Metal Factory
Ningbo Hefeng Container Manufacturer Co., Ltd.
Ningbo Hefeng Kitchen Utensils Manufacture Co., Ltd.
Ningbo HGM Food Machinery Co., Ltd.
Ningbo Jiangbei Bei Fu Industry and Trade Co., Ltd.
Ningbo Kegco International Trade Co., Ltd.
Ningbo Kegstorm Stainless Steel Co., Ltd.
Ningbo Minke Import & Export Co., Ltd.
Ningbo Sanfino Import & Export Co., Ltd.
Ningbo Shimaotong International Co., Ltd.
Ningbo Sunburst International Trading Co., Ltd.
Orient Equipment (Taizhou) Co., Ltd.
Penglai Jinfu Stainless Steel Products.
Pera Industry Shanghai Co., Ltd.
Qingdao Henka Precision Technology Co., Ltd.
Qingdao Xinhe Precision Manufacturing Co., Ltd.
Rain Star International Trading Dalian Co., Ltd.
Shandong Meto Beer Equipment Co., Ltd.
Shandong Tiantai Beer Equipment Co., Ltd.
Shandong Tonsen Equipment Co., Ltd.
Shandong Yuesheng Beer Equipment Co., Ltd.
Shenzhen Wellbom Technology Co., Ltd.
Sino Dragon Group, Ltd.
Wenzhou Deli Machinery Equipment Co.
Wuxi Taihu Lamps and Lanterns Co., Ltd.
Yantai Toptech Ltd.
Yantai Trano New Material Co., Ltd., d/b/a Trano Keg, d/b/a SS Keg.
United Arab Emirates: Circular Welded Carbon-Quality Steel Pipe, A-520-807 | 12/1/21-11/30/22
Ajmal Steel Tubes & Pipes Ind., L.L.C.
Conares Metal Supply Limited
K.D. Industries Inc.
KHK Scaffolding and Formwork LLC
THL Pipe and Tube Industries LLC
TSI Metal Industries L.L.C (formerly known as Tiger Steel Industries LLC) ⁸
Universal Tube and Plastic Industries, Ltd.
CVD Proceedings
India: Utility Scale Wind Towers, C-533-898 | 3/25/21-12/31/21
Anand Engineering Products Private Limited
Cubuilt Engineers Private Limited
GE Renewable Energy
GRI Towers India Private Limited
Metalfab Hightech Private Limited
Nordex SE
Siemens Gamesa Renewable Energy Limited
Suzlon Energy Limited
Vestas Wind Technology India Private Limited
VMV Engineering Private Limited
Windar Renewable Energy Private Limited
India: Stainless Steel Flanges, C-533-878 ⁹ | 1/1/21-12/31/21
Hilton Metal Forging Limited
Pradeep Metals Limited
The People's Republic of China: Crystalline Silicon Photovoltaic Cells, Whether or Not Assembled Into Modules, C-570-980 | 1/1/21-12/31/21
Anji DaSol Solar Energy Science & Technology Co., Ltd.
Astronergy Co., Ltd.
Astronergy Solar
Baoding Jiasheng Photovoltaic Technology Co., Ltd.
Baoding Tianwei Yingli New Energy Resources Co., Ltd.
Beijing Tianneng Yingli New Energy Resources Co., Ltd.
Boviet Solar Technology Co., Ltd.
BYD (Shangluo) Industrial Co., Ltd.; BYD H.K. Co., Ltd.; Shanghai BYD Co., Ltd.
Canadian Solar International Limited
Canadian Solar Manufacturing, Inc.
Canadian Solar Inc.; Canadian Solar Manufacturing (Changshu) Inc.; Canadian Solar Manufacturing (Luoyang) Inc.; Changshu Tegu New Materials Technology Co., Ltd.; Changshu Tlian Co., Ltd.; CSI Cells Co., Ltd.; CSI New Energy Holding Co., Ltd.; CSI Solar Manufacture Inc. (a.k.a. CSI New Energy Holding Co., Ltd.); CSI Solar Power (China) Inc.; CSI Solar Power Group Co., Ltd. (f.k.a. CSI Solar Power (China) Inc.); CSI Solar Technologies Inc.; CSI Solartronics (Changshu) Co., Ltd. CSI-GCL Solar Manufacturing (Yancheng) Co., Ltd.; CSI Manufacturing (FuNing) Co., Ltd. (f.k.a. CSI-GCL Solar Manufacturing (YanCheng) Co., Ltd.); Suzhou Sanysolar Materials Technology Co., Ltd.; CSI Modules (Dafeng) Co., Ltd.
Changzhou Trina Hezhong Photoelectric Co., Ltd.
Chint New Energy Technology (Haining) Co., Ltd.
Chint New Energy Technology (Yancheng) Co., Ltd.; Chint New Energy Technology Co., Ltd. (f/k/a Chint New Energy Technology (Haining) Co., Ltd.)
Chint Solar (Hong Kong) Company Limited
Chint Solar (Jiuquan) Co., Ltd.
Chint Solar (Yancheng) Co., Ltd.
Chint Solar (Zhejiang) Co., Ltd.
CSI Modules (Dafeng) Co., Ltd.
CSI Solar Power (China) Inc.
DelSolar (Wujiang) Ltd.
DelSolar Co., Ltd.
De-Tech Trading Limited HK
Dongguan Sunworth Solar Energy Co., Ltd.
Eoplly New Energy Technology Co., Ltd.
ERA Solar Co., Ltd.
ET Solar Energy Limited
Fuzhou Sunmodo New Energy Equipment Co., Ltd.
GCL System Integration Technology Co. Ltd.
Hainan Yingli New Energy Resources Co., Ltd.
Haining Chint Solar Energy Technology Co., Ltd.
Hangzhou Sunny Energy Science and Technology Co., Ltd.
Hengdian Group DMEGC Magnetics Co. Ltd.
Hengshui Yingli New Energy Resources Co., Ltd.
Hongkong Hello Tech Energy Co., Ltd.
JA Technology Yangzhou Co., Ltd.
JA Solar, Co., Ltd.
Baotou JA Solar Technology Co., Ltd.; Beijing JA Solar PV Technology Co., Ltd.; Beijing Jinfeng Investment Co., Ltd.; Donghai JA Solar Technology Co., Ltd.; Donghai JingAo Solar Energy Science and Technology Co., Ltd.; Hebei Jingle Optoelectronic Technology Co., Ltd.; Hebei Jinglong New Materials Technology Group Co., Ltd.; Hebei Jinglong Sun Equipment Co. Ltd.; Hebei Ningjin Songgong Semiconductor Co., Ltd.; Hebei Ningtong Electronic Materials Co., Ltd.; Hebei Ningtong Electronic Materials Co., Ltd.; Hebei Yujing Electronic Science and Technology Co., Ltd.; Hefei JA Solar Technology Co., Ltd.; JA (Hefei) Renewable Energy Co., Ltd; JA PV Technology Co., Ltd.; JA Solar (Xingtai) Co., Ltd.; JA Solar Investment China Co., Ltd; JA Solar Technology Co., Ltd.; JA Solar Technology Yangzhou Co., Ltd.; Jing Hai Yang Semiconductor Material (Donghai) Co., Ltd.; JingAo Solar Co., Ltd.; Jinglong Industry and Commerce Group Co., Ltd.; Jinglong Technology Holdings Co., Ltd.; Jingwei Electronic Materials Co., Ltd.; Ningjin County Jing Tai Fu Technology Co., Ltd.; Ningjin County Jingyuan New Energy Investment Co., Ltd.; Ningjin Guiguang Electronics Investment Co., Ltd.; Ningjin Jinglong PV Industry Investment Co., Ltd.; Ningjin Jingxing Electronic Material Co., Ltd.; Ningjin Longxin Investment Co., Ltd.; Ningjin Saimei Ganglong Electronic Materials Co., Ltd.; Ningjin Songgong Electronic Materials Co., Ltd.; Shanghai JA Solar Technology Co., Ltd.; Solar Silicon Peak Electronic Science and Technology Co., Ltd.; Solar Silicon Valley Electronic Science and Technology Co., Ltd.; Taicang Juren PV Material Co., Ltd.; Xingtai Jinglong Electronic Material Co., Ltd.; Xingtai Jinglong New Energy Co., Ltd.; Xingtai Jinglong PV Materials Co., Ltd.
Jiangsu High Hope Int'l Group.
Jiangsu Jinko Tiansheng Solar Co., Ltd.
Jinko Solar International Limited
Jinko Solar Co., Ltd.; Jinko Solar Import and Export Co., Ltd.; Jiangxi Jinko Photovoltaic Materials Co., Ltd.; Jinko Solar Technology (Haining) Co., Ltd.; JinkoSolar (Chuzhou) Co., Ltd.; JinkoSolar (Shangrao) Co., Ltd.; JinkoSolar (Sichuan) Co., Ltd.; JinkoSolar (Yiwu) Co., Ltd.; Ruixu Industrial Co., Ltd.; Xinjiang Jinko Solar Co., Ltd.; Yuhuan Jinko Solar Co., Ltd.; Zhejiang Jinko Solar Co., Ltd.; Jinko Solar (Shanghai) Management Co., Ltd.
Light Way Green New Energy Co., Ltd.
Lixian Yingli New Energy Resources Co., Ltd.
Longi (HK) Trading Ltd.
Longi Solar Technology Co, Ltd.
Luoyang Suntech Power Co., Ltd.
New East Solar Energy Cambodia Co., Ltd.
Nice Sun PV Co., Ltd.
Ningbo ETDZ Holdings, Ltd.
ReneSola Jiangsu Ltd.
Renesola Zhejiang Ltd.
Changzhou Jintan Ningsheng Electricity Power Co., Ltd.; Changzhou Sveck New Material Technology Co., Ltd.; Changzhou Sveck Photovoltaic New Material Co., Ltd. (including Changzhou Sveck Photovoltaic New Material Co., Ltd. Jintan Danfeng Road Branch); Jiangsu Sveck New Material Co., Ltd.; JiuJiang Shengchao Xinye Technology Co., Ltd. (including JiuJang Shengshao Xinye Technology Co., Ltd. Ruichang Branch); Jiujiang Shengchao Xinye Trade Co., Ltd.; Ninghai Risen Energy Power Development Co., Ltd.; Risen (Changzhou) Import and Export Co., Ltd.; Risen (Luoyang) New Energy Co., Ltd.; Risen (Ningbo) Electric Power Development Co., Ltd.; Risen (Wuhai) New Energy Co., Ltd.; Risen Energy (Changzhou) Co., Ltd.; Risen Energy (HongKong) Co., Ltd.; Risen Energy (Ningbo) Co., Ltd.; Risen Energy (Yiwu) Co., Ltd.; Risen Energy Co., Ltd.; Zhejiang Boxin Investment Co., Ltd.; Zhejiang Twinsel Electronic Technology Co., Ltd.
Shanghai Nimble Co., Ltd.
Shenzhen Glory Industries Co., Ltd.
Shenzhen Sungold Solar Co., Ltd.
Shenzhen Topray Solar Co., Ltd.
Shenzhen Yingli New Energy Resources Co., Ltd.
Sumec Hardware & Tools Co., Ltd.
Sunpreme Solar Technology (Jiaxing) Co., Ltd.
Suntech Power Co., Ltd.
Suntimes Technology Co., Limited
Systemes Versilis, Inc.
Taimax Technologies Inc.
Taizhou BD Trade Co., Ltd.
Talesun Energy
Talesun Solar
tenKsolar (Shanghai) Co., Ltd.
Tianjin Yingli New Energy Resources Co., Ltd.
Toenergy Technology Hangzhou Co., Ltd.
Trina (Hefei) Science and Technology Co., Ltd.
Trina Solar (Hefei) Science and Technology Co., Ltd.
Trina Solar (Singapore) Science and Technology Pte. Ltd.
Trina Solar Energy Development Company Limited
Trina Solar Science & Technology (Thailand) Ltd.; Changzhou Trina PV Ribbon Materials Co., Ltd.; Changzhou Trina Solar Energy Co., Ltd. (a.k.a. Trina Solar Co., Ltd.); Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.
Vina Cell Technology Company Limited
Vina Solar Technology Company Limited
Wuxi Suntech Power Co., Ltd.
Wuxi Tianran Photovoltaic Co., Ltd.
Yancheng Trina Guoneng Photovoltaic Technology Co., Ltd.
Yingli Energy (China) Co., Ltd.
Yingli Green Energy International Trading Company Limited
Yuhuan Jinko Solar Co., Ltd.
Zhejiang ERA Solar Technology Co., Ltd.
Zhejiang Jinko Solar Co., Ltd.
Zhejiang Sunflower Light Energy Science & Technology Limited Liability Company
The People's Republic of China: Melamine, C-570-021 | 1/1/21-12/31/21
Sichuan Aolaite Chemical Co., Ltd.
Xinji Jiuyuan
The People's Republic of China: Mobile Access Equipment and Subassemblies Thereof,¹⁰ C-570-140 | 12/9/21-12/31/21
Anhui Heli Industrial Vehicle Imp. & Exp. Co., Ltd.
Changzhou Hengxuan Logistics Co., Ltd.
Crown Equipment (Suzhou) Co., Ltd.
Deqing Liguan Machinery Trading Co. Ltd.
Dongguan Tinbo Packing Industrial Co., Ltd.
Everocean International Forwarding Co., Ltd.
Guangxi LiuGong Machinery Co., Ltd.
Guangzhou Eounice Machinery Co., Ltd.
Hangzhou Hengli Metal Processing Co., Ltd.
Hunan Sinoboom Intelligent Equipment Co., Ltd.
Jiaxing Xinfeng Zhong Wang Hydraulic Pressure Accessory Factory.
Leader Technology Co., Ltd.
Lingong Group Jinan Heavy Machinery Co., Ltd.
Mantall Heavy Industry Co., Ltd.
Noblelift Intelligent Equipment Co., Ltd.
Oshkosh JLG (Tianjin) Equipment Technology Co., Ltd.
Sany Marine Heavy Industry Co., Ltd.
Shandong Tavol Machinery Co., Ltd.
Shanghai Full Trans Global Forwarding Co., Ltd.
Shanghai Inter Cooperation Co., Ltd.
Shanghai Xiangcheng Trading Co., Ltd.
Shenzhen Shining Ocean International Logistics Co., Ltd.
Skyjack Inc.
Terex (Changzhou) Machinery Co., Ltd.
Wuhai Huadong Heavy Industry Foundry Co., Ltd.
Xuzhou Construction Machinery Group Fire Fighting Safety Equipment Co., Ltd.
Xuzhou Construction Machinery Group Imp. & Exp. Co., Ltd.
Yantai Carhart Manufacturing Co., Ltd.
Zhejiang Dingli Machinery Co., Ltd.
Zhejiang Smile Tools Co., Ltd.
Zoomlion Heavy Industry Science & Technology Co., Ltd.
The People's Republic of China: Multilayered Wood Flooring,¹¹ C-570-971 | 1/1/21-12/31/21
Anhui Boya Bamboo & Wood Products Co., Ltd.
Anhui Yaolong Bamboo & Wood Products Co. Ltd.
Anhui Longhua Bamboo Product Co., Ltd.
Armstrong Wood Products (Kunshan) Co., Ltd.
Baroque Timber Industries (Zhongshan) Co., Ltd.
Benxi Flooring Factory (General Partnership)
Benxi Wood Company
Changzhou Hawd Flooring Co., Ltd.
Dalian Guhua Wooden Product Co., Ltd.
Dalian Huilong Wooden Products Co., Ltd.
Dalian Jaenmaken Wood Industry Co., Ltd.
Dalian Jiahong Wood Industry Co., Ltd.
Dalian Kemian Wood Industry Co., Ltd.
Dalian Penghong Floor Products Co., Ltd.
Dalian Qianqiu Wooden Product Co., Ltd.
Dalian Shengyu Science and Technology Development Co., Ltd.
Dalian Shumaike Floor Manufacturing Co., Ltd.
Dalian T-Boom Wood Products Co., Ltd.
Dongtai Fuan Universal Dynamics, LLC
Dun Hua SenTai Wood Co., Ltd.
Dunhua City Dexin Wood Industry Co., Ltd.
Dunhua City Hongyuan Wood Industry Co., Ltd.
Dunhua City Jisen Wood Industry Co., Ltd.
Dunhua Shengda Wood Industry Co., Ltd.
Fine Furniture (Shanghai) Limited ¹²
Fusong Jinlong Wooden Group Co., Ltd.
Fusong Jinqiu Wooden Product Co., Ltd.
Fusong Qianqiu Wooden Product Co., Ltd.
Guangzhou Homebon Timber Manufacturing Co., Ltd.
HaiLin LinJing Wooden Products, Ltd.
Hangzhou Hanje Tec Company Limited
Hangzhou Zhengtian Industrial Co., Ltd.
Hong Kong Chuanshi International
Hunchun Forest Wolf Wooden Industry Co., Ltd.
Hunchun Xingjia Wooden Flooring Inc.
Huzhou Chenghang Wood Co., Ltd.
Huzhou Fulinmen Imp. & Exp. Co., Ltd.
Huzhou Jesonwood Co., Ltd.
Huzhou Sunergy World Trade Co., Ltd.
Jiangsu Guyu International Trading Co., Ltd.
Jiangsu Keri Wood Co., Ltd.
Jiangsu Mingle Flooring Co., Ltd.
Jiangsu Senmao Bamboo and Wood Industry Co., Ltd.
Jiangsu Simba Flooring Co., Ltd.
Jiangsu Yuhui International Trade Co., Ltd.
Jiashan HuiJiaLe Decoration Material Co., Ltd.
Jiashan On-Line Lumber Co., Ltd.
Jiaxing Hengtong Wood Co., Ltd.
Jilin Xinyuan Wooden Industry Co., Ltd.
Karly Wood Product Limited
Kemian Wood Industry (Kunshan) Co., Ltd.
Kember Flooring, Inc. (also known as Kember Hardwood Flooring, Inc.)
Kingman Wood Industry Co., Ltd.
Kornbest Enterprises Limited
Les Planchers Mercier, Inc.
Linyi Anying Wood Co., Ltd.
Linyi Youyou Wood Co., Ltd (successor-in-interest to Shanghai Lizhong Wood Products Co., Ltd.) (a/k/a The Lizhong Wood Industry Limited Company of Shanghai)
Logwin Air and Ocean Hong Kong
Metropolitan Hardwood Floors, Inc.
Muchsee Wood (Chuzhou) Co., Ltd.
Pinge Timber Manufacturing (Zhejiang) Co., Ltd.
Power Dekor Group Co. Ltd.
Power Dekor North America Inc.
Riverside Plywood Corporation
Samling Elegant Living Trading (Labuan) Ltd.
Samling Global USA, Inc.
Scholar Home (Shanghai) New Material Co. Ltd.
Shanghai Lairunde Wood
Shanghaifloor Timber (Shanghai) Co., Ltd.
Sino-Maple (Jiangsu) Co., Ltd.
Suzhou Dongda Wood Co., Ltd.
Suzhou Times Flooring Co., Ltd.
Tech Wood International Ltd.
Tongxiang Jisheng Import and Export Co., Ltd.
Xiamen Yung De Ornament Co., Ltd.
Xuzhou Shenghe Wood Co., Ltd.
Yekalon Industry, Inc.
Yihua Lifestyle Technology Co., Ltd. (successor-in-interest to Guangdong Yihua Timber Industry Co., Ltd.)
Yingyi-Nature (Kunshan) Wood Industry Co., Ltd.
Zhejiang Dadongwu Greenhome Wood Co., Ltd.
Zhejiang Fuerjia Wooden Co., Ltd.
Zhejiang Jiechen Wood Industry Co., Ltd.
Zhejiang Longsen Lumbering Co., Ltd.
Zhejiang Shiyou Timber Co., Ltd.
Zhejiang Shuimojiangnan New Material Technology Co., Ltd.
Zhejiang Simite Wooden Co., Ltd.
The People's Republic of China: Refillable Stainless Steel Kegs, C-570-094 | 1/1/21-12/31/21
Dalian Yonghseng Metal Structure Co., Ltd. d/b/a DYM Brewing Solutions
Equipmentimes (Dalian) E-Commerce Co., Ltd.
Guangzhou Jingye Machinery Co., Ltd.
Guangzhou Ulix Industrial & Trading Co., Ltd.
Jinan Chenji International Trade Co., Ltd.
Jinan Chenji Machinery Equipment Co., Ltd.
Jinan HaoLu Machinery Equipment Co., Ltd.
Jinjiang Jiaxing Import and Export Co., Ltd.
NDL Keg Qingdao Inc.
Ningbo All In Brew Technology Co.
Ningbo Bestfriends Beverage Containers Industry Co., Ltd.
Ningbo Chance International Trade Co., Ltd
Ningbo Direct Import & Export Co., Ltd.
Ningbo Haishu Direct Import and Export Trade Co., Ltd.
Ningbo Haishu Xiangsheng Metal Factory
Ningbo Hefeng Container Manufacturer Co., Ltd.
Ningbo Hefeng Kitchen Utensils Manufacture Co., Ltd.
Ningbo HGM Food Machinery Co., Ltd.
Ningbo Jiangbei Bei Fu Industry and Trade Co., Ltd.
Ningbo Kegco International Trade Co., Ltd.
Ningbo Kegstorm Stainless Steel Co., Ltd.
Ningbo Minke Import & Export Co., Ltd.
Ningbo Sanfino Import & Export Co., Ltd.
Ningbo Shimaotong International Co., Ltd.
Ningbo Sunburst International Trading Co., Ltd.
Orient Equipment (Taizhou) Co., Ltd.
Penglai Jinfu Stainless Steel Products
Pera Industry Shanghai Co., Ltd.
Qingdao Henka Precision Technology Co., Ltd.
Qingdao Xinhe Precision Manufacturing Co., Ltd.
Rain Star International Trading Dalian Co., Ltd.
Shandong Meto Beer Equipment Co., Ltd.
Shandong Tiantai Beer Equipment Co., Ltd.
Shandong Tonsen Equipment Co., Ltd.
Shandong Yuesheng Beer Equipment Co., Ltd.
Shenzhen Wellbom Technology Co., Ltd.
Sino Dragon Group, Ltd.
Wenzhou Deli Machinery Equipment Co.
Wuxi Taihu Lamps and Lanterns Co., Ltd.
Yantai Toptech Ltd.
Yantai Trano New Material Co., Ltd., d/b/a Trano Keg, d/b/a SS Keg
Suspension Agreements
Mexico: Sugar, A-201-845 | 12/1/21-11/30/22
Mexico: Sugar, C-201-846 | 1/1/22-12/31/22
Deferral of Initiation of Administrative Review
Oman: Circular Welded Carbon-Quality Steel Pipe,¹³ A-523-812 | 12/1/21-11/30/22
Al Jazeera Steel Products Co. SAOG.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

⁵ In the notice of initiation for October anniversary orders, published in the Federal Register on December 5, 2022 (87 FR 74404), an interested party inadvertently misspelled the name of one company for which a review was requested. Commerce hereby corrects that error.

⁶ Commerce determined that that CS Wind Corporation and CS Wind Malaysia Sdn. Bhd. are a single entity. See Utility Scale Wind Towers from Malaysia: Preliminary Determination of Sales at Not Less Than Fair Value and Postponement of Final Determination, 86 FR 27828 (May 24, 2021); unchanged in Utility Scale Wind Towers from Malaysia: Final Affirmative Determination of Sales at Less Than Fair Value, 86 FR 56894 (October 13, 2021).

⁷ The company listed below (i.e., Deestone Corporation Public Company Limited) was inadvertently omitted in the notice of initiation that published in the Federal Register on September 6, 2022 (87 FR 54463).

⁸ Commerce determined that TSI Metal Industries L.L.C is the successor-in-interest to Tiger Steel Industries LLC. See Circular Welded Carbon-Quality Steel Pipe from the United Arab Emirates: Final Results of Antidumping Duty Administrative Review; 2019-2020, 87 FR 41112 at n.3 (July 11, 2022).

⁹ In the notice of initiation for October anniversary orders, published in the Federal Register on December 5, 2022 (87 FR 74404), interested parties inadvertently misspelled the names of two companies for which a review was requested. Commerce hereby corrects that error.

¹⁰ In the opportunity notice that published on December 1, 2022 (87 FR 73752), Commerce listed with wrong period of review for the case above. The correct period of review is listed in this notice.

¹¹ Commerce received a timely request to review Jiaxing Brilliant Import & Export Co., Ltd., but omitted it from this list because Jiaxing Brilliant Import & Export Co., Ltd. is excluded from the CVD order. See Multilayered Wood Flooring From the People's Republic of China: Countervailing Duty Order, 76 FR 76693 (December 8, 2011).

¹² Commerce previously found Great Wood (Tonghua) Ltd. and Fine Furniture Plantation (Shishou) Ltd. to be cross-owned affiliates of Fine Furniture (Shanghai) Limited. See Multilayered Wood Flooring From the People's Republic of China: Final Affirmative Countervailing Duty Determination, 76 FR 64313 (October 18, 2011).

¹³ Pursuant to 19 CFR 351.213(c), Commerce received a request from Al Jazeera Steel Products Co. SAOG to defer the administrative review with respect to itself for one year. Commerce did not receive any objections to the deferral within 15 days after the end of the anniversary month. As such, we will initiate the administrative review with respect to Al Jazeera Steel Products Co. SAOG in the month immediately following the next anniversary month of the AD order on Circular Welded Carbon-Quality Steel Pipe from Oman.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁴ available at www.govinfo.gov/content/pkg/FR-2013-07-17/pdf/2013-17045.pdf, prior to submitting factual information in this segment. Note that Commerce has temporarily modified certain of its requirements for serving documents containing business proprietary information, until further notice.¹⁵

¹⁴ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁵ See Temporary Rule Modifying AD/CVD Service Requirements Due to COVID-19; Extension of Effective Period, 85 FR 41363 (July 10, 2020).

Any party submitting factual information in an AD or CVD proceeding must certify to the accuracy and completeness of that information using the formats provided at the end of the Final Rule.¹⁶ Commerce intends to reject factual submissions in any proceeding segments if the submitting party does not comply with applicable certification requirements.

¹⁶ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁷ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁷ See 19 CFR 351.302.

These initiations and this notice are in accordance with section 751(a) of the Act (19 U.S.C. 1675(a)) and 19 CFR 351.221(c)(1)(i).

Dated: January 27, 2023.
James Maeder,
Deputy Assistant Secretary for Antidumping and Countervailing Duty Operations.

[FR Doc. 2023-02162 Filed 2-1-23; 8:45 am]

BILLING CODE 3510-DS-P